DEPARTMENT OF AGRICULTURE

Farm Service Agency

Public Meetings of Advisory Committee on Beginning Farmers and Ranchers

AGENCY: Farm Service Agency, USDA.

ACTION: Notice of public meetings.

SUMMARY: We are issuing this notice to advise the public that meetings of the Advisory Committee on Beginning Farmers and Ranchers (Committee) will be held to discuss various beginning farmer issues.

DATES: The public meetings will be held July 9-10, 2007. The first meeting, on July 9, 2007, will start at 8 a.m. and end by 5:30 p.m. The second meeting, on July 10, 2007, will begin at 8 a.m. and end by 6 p.m. All times noted are Central Standard Time (CST). See Supplementary Information for oral presentation submission date.

ADDRESSES: All meetings will be held at the Embassy Suites Des Moines-On the River, 101 East Locust Street, Des Moines, Iowa, (515) 244-1700. Written requests to make oral presentations must be sent to: Mark Falcone, Designated Federal Official for the Advisory Committee on Beginning Farmers and Ranchers, Farm Service Agency, U.S. Department of Agriculture (USDA), 1400 Independence Avenue, SW., STOP 0522, Washington, DC 20250-0522; telephone (202) 720-1632; FAX (202) 690-1117; e-mail: mark.falcone@wdc.usda.gov.

FOR FURTHER INFORMATION CONTACT: Mark Falcone at (202) 720-1632.

SUPPLEMENTARY INFORMATION: Section 5 of the Agricultural Credit Improvement Act of 1992 (Pub. L. 102-554) required the Secretary of Agriculture (the Secretary) to establish the Committee for the purpose of advising the Secretary on the following:

(1) The development of a program of coordinated financial assistance to qualified beginning farmers and ranchers required by section 309(i) of the Consolidated Farm and Rural Development Act (7 U.S.C. 1929). Under the program, Federal and State beginning farmer programs provide financial assistance to beginning farmers and ranchers;

(2) Methods of maximizing the number of new farming and ranching opportunities created through the program;

(3) Methods of encouraging States to participate in the program;

(4) The administration of the program; and

(5) Other methods of creating new farming or ranching opportunities.

The Committee meets annually and all meetings are open to the public. The duration of the Committee is indefinite. Earlier meetings of the Committee, beginning in 1999, provided an opportunity for members to exchange ideas on ways to increase opportunities for beginning farmers and ranchers. Members discussed various issues and drafted numerous recommendations, which were provided to the Secretary.

Agenda items for the July 2007 meetings include:

(1) Discussions concerning provisions of the 2007 Farm Bill legislative proposals to assist beginning farmers and ranchers;

(2) A young farmer panel discussion;

(3) Comments from the Director of Iowa's Beginning Farmer Center;

(4) Status of previous committee recommendations.

Attendance is open to all interested persons but limited to space available. Anyone wishing to make an oral presentation should submit a request in writing (letter, fax, or e-mail) to Mark Falcone at the above address. Statements should be received no later than July 5, 2007. Requests should include the name and affiliation of the individual who will make the presentation and an outline of the issues to be addressed. The floor will be open to oral presentations beginning at 1:15 p.m. CST on July 9, 2007.

Comments will be limited to 5 minutes, and presenters will be approved on a first-come, first-served basis.

Persons with disabilities who require special accommodations to attend or participate in the meetings should contact Mark Falcone by July 5, 2007.

Signed in Washington, DC, on June 4, 2007.
Glen L. Keppy,
Acting Administrator, Farm Service Agency.

[FR Doc. E7-11545 Filed 6-14-07; 8:45 am]

BILLING CODE 3410-05-P